DEPARTMENT OF TRANSPORTATION

Federal Aviation Administration

14 CFR Part 39

[Docket No. 2003-CE-52-AD]

RIN 2120-AA64

Airworthiness Directives; The New Piper Aircraft, Inc. Model PA-46-500TP Airplanes

AGENCY: Federal Aviation Administration (FAA), DOT.

ACTION: Notice of proposed rulemaking (NPRM).

SUMMARY: The FAA proposes to adopt a new airworthiness directive (AD) for certain The New Piper Aircraft, Inc. (Piper) Model PA-46-500TP airplanes. This proposed AD would require you to inspect (one-time) for the existence of any protective cover over the percussion caps or silicon tube installed over the end of the trigger mechanism pin of the oxygen generators, and remove any protective cover or silicon tube found. This proposed AD is the result of reports of the above conditions found on the affected airplanes. We are issuing this proposed AD to detect and remove any protective cover over the percussion cap, or any silicon tube over the end of the trigger mechanism pin, which could result in failure of the emergency oxygen system. This failure could lead to the crew and passengers not being able to get oxygen in an emergency situation.

DATES: We must receive any comments on this proposed AD by June 1, 2004.

ADDRESSES: Use one of the following to submit comments on this proposed AD:

• By mail: FAA, Central Region, Office of the Regional Counsel, Attention: Rules Docket No. 2003-CE-52-AD, 901 Locust, Room 506, Kansas City, Missouri 64106.

• By fax: (816) 329-3771.

• By e-mail: 9-ACE-7-Docket@faa.gov. Comments sent electronically must contain “Docket No. 2003-CE-52-AD” in the subject line. If you send comments electronically as attached electronic files, the files must be formatted in Microsoft Word 97 for Windows or ASCII.

You may get the service information identified in this proposed AD from The New Piper Aircraft, Inc., Customer Services, 2926 Piper Drive, Vero Beach, Florida 32960; telephone: (772) 567-4361; facsimile: (772) 978-6584.

You may view the AD docket at FAA, Central Region, Office of the Regional Counsel, Attention: Rules Docket No. 2003-CE-52-AD, 901 Locust, Room 506, Kansas City, Missouri 64106. Office hours are 8 a.m. to 4 p.m., Monday through Friday, except Federal holidays.

FOR FURTHER INFORMATION CONTACT: Hector Hernandez, Aerospace Engineer, FAA, Atlanta Aircraft Certification Office, One Crown Center, 1895 Phoenix Boulevard, Suite 450, Atlanta, Georgia 30349; telephone: (770) 703-6069; facsimile: (770) 703-6097.

SUPPLEMENTARY INFORMATION:

Comments Invited

How do I comment on this proposed AD? We invite you to submit any written relevant data, views, or arguments regarding this proposal. Send your comments to an address listed under ADDRESSES. Include “AD Docket No. 2003-CE-52-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? The FAA has received several reports of the protective cover installed over the percussion cap on the oxygen generator on the Models PA-46-310P, PA-46-350P and PA-46-500TP airplanes. Also, a silicon tube may exist over the end of the trigger mechanism pin. Any protective cover installed over the percussion cap, or any silicon tube installed over the trigger, on the oxygen generator renders the emergency oxygen system inoperative.

What is the potential impact if FAA took no action? Any protective cover on the percussion cap or silicon tube installed over the end of the trigger mechanism pin could result in failure of the emergency oxygen system. This failure could lead to the crew or passengers not being able to get oxygen in an emergency situation.

Is there service information that applies to this subject? Piper has issued Service Bulletin No. 1140, dated September 16, 2003.

What are the provisions of this service information? The service bulletin includes procedures for:

—Inspecting the oxygen generators for any protective cover of the percussion caps installed over the percussion cap or any silicon tube installed over the end of the trigger mechanism pin; and

—If any protective cover over the percussion cap or silicon tube installed over the end of the trigger mechanism pin is found, removing the protective cover or silicon tube.

FAA's Determination and Requirements of This Proposed AD

What has FAA decided? We have evaluated all pertinent information and identified an unsafe condition that is likely to exist or develop on other products of this same type design. Therefore, we are proposing AD action.

What would this proposed AD require? This proposed AD would require you to incorporate the actions in the previously-referenced service bulletin on the Model PA-46-500TP airplanes.

The affected models in the previously-referenced service bulletin include the Models PA-46-310P and PA-46-350P airplanes. However, these models are certificated at a lower service ceiling than the Model PA-46-500TP airplane. Since Piper has demonstrated an emergency descent to a lower altitude with no oxygen to the pilot, neither Model PA-46-310P nor PA-46-350P airplanes are affected by the identified condition.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 135 airplanes in the U.S. registry.

What would be the cost impact of this proposed AD on owners/operators of the affected airplanes? We estimate the following costs to accomplish this proposed inspection (and removal of any protective cover on the percussion cap or any silicon tube installed over the end of the trigger mechanism pin):

Labor cost | Parts cost | Total cost per airplane | Total cost on U.S. operators
1 workhour × $65 per hour= $65 | No cost for parts | $65 | 135 × $65 = $8,775.

Compliance Time of This Proposed AD

What would be the compliance time of this proposed AD? The compliance time of this proposed AD is within the next 50 hours time-in-service (TIS) or 30 calendar days after the effective date of the proposed AD.

Why is the compliance time of this proposed AD presented in both hours TIS and calendar time? Any protective cover on a percussion cap or silicon tube installed over the end of the trigger mechanism pin on the emergency oxygen generator of the affected airplanes is a result of a manufacturer quality control problem. The presence of any installed protective cover on a percussion cap or silicon tube installed over the end of the trigger mechanism pin can occur regardless of whether the airplane is in flight or on the ground. To ensure that any installed protective cover on a percussion cap or silicon tube installed over the end of the trigger mechanism pin does not go undetected, a compliance time of specific hours TIS and calendar time is utilized.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-52-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The New Piper Aircraft, Inc.: Docket No. 2003-CE-52-AD.

When Is the Last Date I Can Submit Comments on This Proposed AD?

(a) We must receive comments on this proposed airworthiness directive (AD) by June 1, 2004.

What Other ADs Are Affected by This Action?

(b) None.

What Airplanes Are Affected by This AD?

(c) This AD affects Model PA-46-500TP airplanes, serial numbers 4697001 through 4697163, that are certificated in any category.

What Is the Unsafe Condition Presented in This AD?

(d) This AD is the result of reports of a protective cover installed over the percussion cap or a silicon tube installed over the end of the trigger mechanism pin, on the oxygen generator, rendering the emergency oxygen system inoperative. The actions specified in this AD are intended to detect and remove any protective cover over the percussion cap or any silicon tube over the end of the trigger mechanism pin, which could result in failure of the emergency oxygen system. This failure could lead to the crew or passengers not being able to get oxygen in an emergency situation.

What Must I Do To Address This Problem?

(e) To address this problem, you must do the following:

Actions | Compliance | Procedures
(1) Inspect:
(i) The percussion cap of any oxygen generator (part number (P/N) 471-025) for the presence of any protective cover; and | Within the next 50 hours time-in-service after the effective date of this AD or within the next 30 calendar days after the effective date of this AD, whichever occurs first, unless already done | Follow the INSTRUCTIONS paragraph in The New Piper Aircraft, Inc. Service Bulletin No. 1140, dated September 16, 2003, and the applicable airplane maintenance manual.
(ii) The end of the trigger mechanism of any oxygen generator (P/N 471-025) for the presence of any silicon tube
(2) If during the inspections required by paragraphcs (e)(1)(i) and (e)(1)(ii) of this AD, you find any protective cover over the percussion cap or any silicon tube over the end of the trigger mechanism, remove any protective cover or silicon tube | Before further flight after the inspection required in paragraph (e)(1) of this AD, unless already done | Follow the INSTRUCTIONS paragraph in The New Piper Aircraft, Inc. Service Bulletin No. 1140, dated September 16, 2003, and the applicable airplane maintenance manual.
(3) Do not operate the airplane after installation of any oxygen generator (P/N 471-025) referenced in this AD unless any protective cover of the percussion cap or any silicon tube over the end of the trigger mechanism has been removed | As of the effective date of this AD | Not applicable.

Note: Standard procedure is to remove the protective cover after installation. Refer to the applicable airplane maintenance manual for specific procedures for removing any protective cover of the percussion cap or any silicon tube over the end of the trigger mechanism.

May I Request an Alternative Method of Compliance?

(f) You may request a different method of compliance or a different compliance time for this AD by following the procedures in 14 CFR 39.19. Unless FAA authorizes otherwise, send your request to your principal inspector. The principal inspector may add comments and will send your request to the Manager, Atlanta Aircraft Certification Office (ACO), FAA. For information on any already approved alternative methods of compliance, contact Hector Hernandez, Aerospace Engineer, FAA, Atlanta ACO, One Crown Center, 1895 Phoenix Boulevard, Suite 450, Atlanta, Georgia 30349; telephone: (770) 703-6069; facsimile: (770) 703-6097.

May I Get Copies of the Documents Referenced in This AD?

(g) You may get copies of the documents referenced in this AD from The New Piper Aircraft, Inc., Customer Services, 2926 Piper Drive, Vero Beach, Florida 32960; telephone: (772) 567-4361; facsimile: (772) 978-6584. You may view these documents at FAA, Central Region, Office of the Regional Counsel, 901 Locust, Room 506, Kansas City, Missouri 64106.

Issued in Kansas City, Missouri, on March 23, 2004.
David R. Showers,
Acting Manager, Small Airplane Directorate, Aircraft Certification Service.

[FR Doc. 04-7128 Filed 3-30-04; 8:45 am]

BILLING CODE 4910-13-P